DEPARTMENT OF HEALTH AND HUMAN SERVICES

Health Resources and Services Administration

National Advisory Council on Nurse Education and Practice; Notice of Meeting

In accordance with section 10(a)(2) of the Federal Advisory Committee Act (Public Law 92-463), notice is hereby given of the following meetings:

Name: National Advisory Council on Nurse Education and Practice (NACNEP).

Dates and Times: April 22, 2010, 8:30 a.m.-4:30 p.m.

April 23, 2010, 8:30 a.m.-4 p.m.

Place: Doubletree Bethesda Hotel & Executive Meeting Center, 8120 Wisconsin Avenue, Bethesda, MD 20814.

Status: The meeting will be open to the public.

Agenda: Agency and Bureau administrative updates will be provided.

Purpose: The purpose of this meeting is to address issues relating to the role of nursing in primary care and implications for workforce. The objectives of the meeting are to: (1) Delineate the variety of roles nurses play in primary care including health promotion, screening, public education, illness prevention, primary care and management of stable chronic conditions; (2) review and evaluate the data related to education preparation and supply of primary care nurses and advanced practice registered nurses; (3) describe factors that facilitate and sustain primary care practice by qualified, competent advanced practice registered nurses; (4) identify the financial and regulatory barriers to effective, accessible primary care delivered by nurses and recommended strategies for resolution; and (5) review and recommend community-based, nurse-directed models for primary care delivery that are cost effective and produce quality outcomes. This meeting is a continuation of the meeting that was held November 2009. Experts from professional nursing, public and private organizations will make presentations on primary care delivery models. During this meeting, the NACNEP council members will deliberate on the content presented and formulate recommendations to the Secretary of Health and Human Services and the Congress on the role of nursing in primary care. This meeting will form the basis for NACNEP's mandated Tenth Annual Report.

The NACNEP will join the Council on Graduate Medical Education (COGME), the Advisory Committee on Training in Primary Care Medicine and Dentistry (ACTPCMD), and the Advisory Committee on Interdisciplinary, Community-Based Linkages (ACICBL) on April 21, 2010, for the third Bureau of Health Professions (BHPr) All Advisory Committee Meeting. Please refer to the Federal Register notice for the BHPr All Advisory Committee Meeting for additional details.

For further information regarding NACNEP, to obtain a roster of members, minutes of the meeting, or other relevant information, contact Lakisha Smith, Executive Secretary, National Advisory Council on Nurse Education and Practice, Parklawn Building, Room 8C-26, 5600 Fishers Lane, Rockville, Maryland 20857, telephone (301) 443-5688. Information can also be found at the following web site: http://bhpr.hrsa.gov/nursing/nacnep.htm

Dated: March 10, 2010.
Sahira Rafiullah,
Director, Division of Policy and Information Coordination.

[FR Doc. 2010-5675 Filed 3-15-10; 8:45 am]

BILLING CODE 4165-15-P